GENERAL SERVICES ADMINISTRATION

[Notice-PBS-2018-07; Docket No. 2018-0002; Sequence No. 21]

Redesignation of Federal Building

AGENCY: Public Buildings Service (PBS), General Services Administration (GSA).

ACTION: Notice of a bulletin.

SUMMARY: The attached bulletin announces the redesignation of a Federal building per the Federal Management Regulation.

DATES: This bulletin expires September 3, 2019. The building redesignation remains in effect until canceled or superseded by another bulletin.

FOR FURTHER INFORMATION CONTACT: General Services Administration, Public Buildings Service (PBS), Office of Portfolio Management, Attn: Chandra Kelley, 77 Forsyth Street SW, Atlanta, GA 30303, at 404-562-2763, or by email at chandra.kelley@gsa.gov.

SUPPLEMENTARY INFORMATION:

This bulletin announces the redesignation of a Federal building. Public Law 115-141, Section 632, dated January 3, 2017, designated the Jackson Federal Courthouse, located at 501 East Court Street in Jackson, Mississippi, as the “Thad Cochran United States Courthouse.”

Dated: February 22, 2019.
Emily W. Murphy,
Administrator of General Services.

GENERAL SERVICES ADMINISTRATION

REDESIGNATION OF FEDERAL BUILDING

PBS-2018-07

TO: Heads of Federal Agencies.

SUBJECT: Redesignation of Federal Building.

1. What is the purpose of this bulletin? This bulletin announces the redesignation of a Federal building.

2. When does this bulletin expire? This bulletin announcement expires September 3, 2019. The building designation remains in effect until canceled or superseded by another bulletin.

3. Redesignation. The former and new name of the redesignated building is as follows:

Former name | New name
Jackson Federal Courthouse, 501 East Court Street in Jackson, Mississippi, 39201 | Thad Cochran United States Courthouse, 501 East Court Street in Jackson, Mississippi, 39201.

4. Who should we contact for further information regarding redesignation of this Federal building? U.S. General Services Administration, Public Buildings Service, Office of Portfolio Management, Attn: Chandra Kelley, 77 Forsyth Street, SW, Atlanta, GA 30303, telephone number: 404-562-2763, or e-mail at chandra.kelley@gsa.gov.

Dated: February 22, 2019.
Emily W. Murphy,
Administrator of General Services.

[FR Doc. 2019-03711 Filed 2-28-19; 8:45 am]

BILLING CODE 6820-Y1-P